DEPARTMENT OF ENERGY

Federal Energy Regulatory Commission

[Docket No. AD09-10-000]

National Action Plan on Demand Response; Notice Providing New Technical Conference Date and Announcing Release of Discussion Draft

October 28, 2009.

On September 18, 2009, the Commission issued a notice scheduling staff technical conferences to support the development of the National Action Plan on Demand Response. On October 7, 2009, the Commission postponed the technical conferences. Take notice that Commission Staff will hold only one technical conference, and it will be in Washington, DC on November 19, 2009, beginning at 1 p.m. (EST) and ending at approximately 2 p.m. on November 20, 2009 in the Commission Meeting Room at the Federal Energy Regulatory Commission, 888 First Street, NE., Washington, DC 20426.

Section 529 of the Energy Independence and Security Act of 2007 ¹ directed the Commission to develop a National Action Plan on Demand Response (National Action Plan). The purpose of this technical conference is to elicit input from interested stakeholders on the possible elements of the National Action Plan as discussed in the Discussion Draft on Possible Elements of a National Action Plan on Demand Response (Discussion Draft), released today in the above-referenced docket number. Commission Staff will utilize the Discussion Draft at the technical conference to frame the discussions.

¹ Public Law No. 110-140, § 529, 121 Stat. 1492, 1664 (to be codified at National Energy Conservation Policy Act, 42 U.S.C. 8241-8287d, 8279).

The technical conference will include panel sessions on the first day to discuss the overall approach and scope of the Discussion Draft. The second day will include breakout sessions that will focus on each of the three statutory objectives listed below. A closing plenary session will summarize the break-out discussions.

The conference will be open to the public, and all interested persons are invited to participate. For logistical purposes, staff requests those planning to attend to pre-register via an electronic form at: https://www.ferc.gov/whats-new/registration/nap-11-19-form.asp. Advance registration is not required to participate.

The Commission is extending the deadline to Friday, November 6, 2009 for those interested in speaking during the November 19th afternoon panels at the conference. Those interested should complete an online form describing the elements that they will address at https://www.ferc.gov/whats-new/registration/nap-11-19-speaker-form.asp. The Commission also requests that those parties that previously completed the online speaker form resubmit it to indicate that they are available on the new date. Due to time constraints, we may not be able to accommodate all those interested in speaking on panels; however, the panels will represent a balance of stakeholder interests.

All conference attendees are invited to attend the panel sessions on November 19th, participate in the break-out session discussions and attend the plenary session on November 20th. A detailed agenda, including panel speakers, will be published at a later date.

The Commission is seeking input in the form of written comments on the Discussion Draft and discussions at the technical conference on the best ways to meet the objectives that Congress identified for the National Action Plan: (1) Identification of requirements for technical assistance to States to allow them to maximize the amount of demand response resources that can be developed and deployed; (2) design and identification of requirements for implementation of a national communications program that includes broad-based customer education and support; (3) development or identification of analytical tools, information, model regulatory provisions, model contracts, and other support materials for use by customers, States, utilities and demand response providers.²

² Id.

Written comments on the Discussion Draft and on the discussions at the technical conference are due by Friday, December 4, 2009. Commission Staff will draw on the written comments received and the discussions at the technical conferences to prepare the National Action Plan. Comments may be filed electronically via the Internet. Instructions for submitting comments are available on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

Commission conferences are accessible under section 508 of the Rehabilitation Act of 1973. For accessibility accommodations, please send an e-mail to accessibility@ferc.gov or call toll free (866) 208-3372 (voice) or (202) 208-1659 (TTY), or send a FAX to (202) 208-2106 with the required accommodations.

For further information about these conferences, please contact:

Caroline Daly (Technical Information), Office of Energy Policy and Innovation, Federal Energy Regulatory Commission, 888 First Street, NE., Washington, DC 20426, (202) 502-8931, Caroline.Daly@ferc.gov.

Christina Switzer (Legal Information), Office of the General Counsel—Energy Markets, Federal Energy Regulatory Commission, 888 First Street, NE., Washington, DC 20426, (202) 502-6379, Christina.Switzer@ferc.gov.

Kimberly D. Bose,
Secretary.

[FR Doc. E9-26478 Filed 11-3-09; 8:45 am]

BILLING CODE 6717-01-P